POSTAL RATE COMMISSION

Briefing on Data System Changes

AGENCY: Postal Rate Commission.

ACTION: Notice of public briefing.

SUMMARY: The United States Postal Service will present a briefing on September 17, 2003 at 10 a.m. in the Postal Rate Commission's hearing room on the proposed merger of two major data reporting systems. The systems affected by the merger are the Revenue, Pieces and Weight (RPW) system and the Origin Destination Information System (ODIS). The briefing is open to the public.

DATES: September 17, 2003, at 10 a.m.

ADDRESSES: Postal Rate Commission (hearing room), 1333 H Street NW., Washington, DC 20268-0001, Suite 300.

FOR FURTHER INFORMATION CONTACT: Stephen L. Sharfman, General Counsel, 202-789-6818.

Steven W. Williams,
Secretary.

[FR Doc. 03-22668 Filed 9-4-03; 8:45 am]

BILLING CODE 7710-FW-M